DEPARTMENT OF AGRICULTURE

Animal and Plant Health Inspection Service

[Docket No. APHIS-2009-0029]

Multi-Agency Informational Meeting Concerning Compliance With the Federal Select Agent Program; Public Meeting

AGENCIES: Animal and Plant Health Inspection Service, USDA.

ACTION: Notice of public meeting.

SUMMARY: This is to notify all interested parties, including individuals and entities possessing, using, or transferring biological agents and toxins listed in 7 CFR 331.3, 9 CFR 121.3 and 121.4, or 42 CFR 73.3 and 73.4, that a meeting will be held to provide specific regulatory guidance related to the Federal Select Agent Program established under the Public Health Security and Bioterrorism Preparedness and Response Act of 2002. The meeting is being organized by the U.S. Department of Agriculture's Animal and Plant Health Inspection Service, the Department of Health and Human Services' Centers for Disease Control and Prevention, and the Department of Justice's Federal Bureau of Investigation. Issues to be discussed include entity registration, security risk assessments, biosafety requirements, and security measures.

DATES: The meeting will be held on August 12, 2009, from 7:30 a.m. to 5 p.m. Persons who wish to attend the meeting must register by July 1, 2009.

ADDRESSES: The meeting will be held at the Roybal Campus, Auditorium A, Centers for Disease Control and Prevention, 1600 Clifton Road, Atlanta, GA.

FOR FURTHER INFORMATION CONTACT:

APHIS: Ms. Aimee M. Hyten, Compliance Manager, APHIS Agriculture Select Agent Program, PPQ, ASAP, APHIS, 4700 River Road Unit 2, Riverdale, MD 20737-1236; (301) 734-5281.

CDC: Patrick J. Fenneran, Training & Outreach Officer, Division of Select Agents and Toxins, CDC, 1600 Clifton Road MS A-46, Atlanta, GA 30333; (404) 718-2000.

SUPPLEMENTARY INFORMATION: Title II of the Public Health Security and Bioterrorism Preparedness and Response Act of 2002, “Enhancing Controls on Dangerous Biological Agents and Toxins” (sections 201 through 231), provides for the regulation of certain biological agents and toxins by the Department of Health and Human Services (subtitle A, sections 201-204) and the Department of Agriculture (subtitle B, sections 211-213), and provides for interagency coordination between the two departments regarding overlap agents and toxins (subtitle C, section 221). For the Department of Health and Human Services, the Centers for Disease Control and Prevention (CDC) has been designated as the agency with primary responsibility for implementing the provisions of the Act; the Animal and Plant Health Inspection Service (APHIS) is the agency fulfilling that role for the Department of Agriculture. CDC and APHIS list select agents and toxins in 42 CFR 73.3 and 73.4, 7 CFR 331.3, and 9 CFR 121.3 and 121.4, respectively. The Federal Bureau of Investigation's (FBI) Criminal Justice Information Service conducts security risk assessments of all individuals and nongovernmental entities that request to possess, use, or transfer select agents and toxins.

The meeting announced here is an opportunity for the regulated community (i.e., registered entity responsible officials, alternate responsible officials, and entity owners) and other interested individuals to obtain specific regulatory guidance and information on standards concerning biosafety and biosecurity issues related to the Federal Select Agent Program. Representatives from CDC, APHIS, and the FBI will be present at the meeting to address questions and concerns. Entity registration, security risk assessments, biosafety requirements, and security measures are among the issues that will be discussed.

All attendees must register in advance of the meeting. For those unable to attend in person, the meeting will be available at no cost as a Webcast for a limited number of registrants. There are two ways to register depending upon the U.S. citizenship status of the attendee:

• Citizens of the United States must complete a U.S. citizen registration form online at http://www.selectagents.gov and submit it to the CDC by July 1, 2009; or

• Non-citizens (including lawful permanent residents) must complete a non-citizen registration form online at http://www.selectagents.gov and submit it to the CDC prior to July 1, 2009. Registrants must also send copies of all required documentation (e.g., passport, visa, permanent resident card, etc.) to the CDC by the July 1, 2009, deadline. A full list of required documentation is located at the Web site listed above. In addition, non-citizens will need to bring all personal documentation to the meeting.

Travel directions to the CDC Roybal Campus are available on the Internet at http://www.cdc.gov/about/resources/visitGuide.htm. In addition to the documents listed above, picture identification and vehicle registration/rental car agreement are required to gain access to the parking facilities and the building. MARTA Route 6 (from Inman Park Station on the East/West and Proctor Creek lines and Lindbergh Center Station on the North/South and Northeast/South lines) and Route 245—Kensington/Emory Express (from Kensington Station on the East/West line and Lindbergh Center Station on the North/South and Northeast/South lines) both serve the CDC Roybal Campus.

If you require special accommodations, such as a sign language interpreter, please call or write one of the individuals listed under FOR FURTHER INFORMATION CONTACT.

Done in Washington, DC, this 18th day of May 2009.
Kevin Shea,
Acting Administrator, Animal and Plant Health Inspection Service.

[FR Doc. E9-11970 Filed 5-21-09; 8:45 am]

BILLING CODE 3410-34-P